DEPARTMENT OF COMMERCE

National Oceanic and Atmospheric Administration

RIN 0648-XA076

Marine Mammals; File No. 15415

AGENCY: National Marine Fisheries Service (NMFS), National Oceanic and Atmospheric Administration (NOAA), Commerce.

ACTION: Notice; receipt of application.

SUMMARY: Notice is hereby given that Scott D. Kraus, PhD, New England Aquarium Edgerton Research Laboratory, Central Wharf, Boston, MA 02110, has applied in due form for a permit to conduct research on North Atlantic right whales (Eubalaena glacialis).

DATES: Written, telefaxed, or e-mail comments must be received on or before January 10, 2011.

ADDRESSES: The application and related documents are available for review by selecting “Records Open for Public Comment” from the Features box on the Applications and Permits for Protected Species (APPS) home page, https://apps.nmfs.noaa.gov, and then selecting File No. 15415 from the list of available applications.

These documents are also available upon written request or by appointment in the following offices:

Permits, Conservation and Education Division, Office of Protected Resources, NMFS, 1315 East-West Highway, Room 13705, Silver Spring, MD 20910; phone (301) 713-2289; fax (301) 713-0376; and

Northeast Region, NMFS, 55 Great Republic Drive, Gloucester, MA 01930; phone (978) 281-9328; fax (978) 281-9394.

Written comments on this application should be submitted to the Chief, Permits, Conservation and Education Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Hapeman or Kristy Beard, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Dr. Kraus requests a three-year scientific research permit to study North Atlantic right whales along the U.S. East Coast from New York Harbor to the Maine-Canada border. Dr. Kraus would conduct experimental trials in which a rope mimic consisting of a colored rigid pipe would be placed in the water near the travelling path of a juvenile or adult whale to determine if right whales are responsive to various color and light characteristics. Control trials would also be conducted with no rope mimic placed in an animal's path. The applicant requests to take up to 200 whales annually for the close vessel approach, photo-identification, observation, and monitoring of whales during trials. The proposed research would seek to determine whether the sensory and behavioral capabilities of right whales can be used to avoid entanglements at depth and in conditions of poor visibility.

In compliance with the National Environmental Policy Act of 1969 (42 U.S.C. 4321 et seq.), a draft environmental assessment (EA) has been prepared to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Dated: December 6, 2010.
P. Michael Payne,
Chief, Permits, Conservation and Education Division, Office of Protected Resources, National Marine Fisheries Service.

[FR Doc. 2010-31122 Filed 12-9-10; 8:45 am]

BILLING CODE 3510-22-P